DEPARTMENT OF ENERGY

Federal Energy Regulatory Commission

[Docket No. RP02-502-000]

Southern Natural Gas Company; Notice of Termination of Gathering Service

September 4, 2002.

Take notice that on August 16, 2002, Southern Natural Gas Company (Southern) tendered for filing, pursuant to Section 4 of the Natural Gas Act, a notice of termination of gathering service provided on Southern's LF-49, LF-50, LF-51 and LF-52 Lines and appurtenant facilities in the Logansport Field, Desoto Parish, Louisiana. Southern plans to abandon these facilities as it is no longer economic for it to maintain them. Southern proposes the effective date of October 1, 2002.

Southern states that it has served copies of the filing upon each of Southern's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before September 11, 2002. Protests will be considered by the Commission in determining the appropriate action to be taken, but will not serve to make protestants parties to the proceedings. Any person wishing to become a party must file a motion to intervene. This filing is available for review at the Commission in the Public Reference Room or may be viewed on the Commission's web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-22874 Filed 9-9-02; 8:45 am]

BILLING CODE 6717-01-P